DEPARTMENT OF HOMELAND SECURITY

Coast Guard

[Docket No. USCG-2021-0124]

Certificate of Alternative Compliance for the USNS HARVEY MILK and USNS EARL WARREN

AGENCY: Coast Guard, DHS.

ACTION: Notification of issuance of a certificate of alternative compliance.

SUMMARY: The Coast Guard announces that the Eleventh Coast Guard District's Prevention Division has issued a certificate of alternative compliance from the International Regulations for Preventing Collisions at Sea, 1972 (72 COLREGS), for the USNS HARVEY MILK (O.N. CG1473700) and USNS EARL WARREN (O.N. CG1473701). We are issuing this notice because its publication is required by statute. Due to the design and operation of the ship's whistles, USNS HARVEY MILK and USNS EARL WARREN cannot fully comply with the light, shape, or sound signal provisions of the 72 COLREGS without interfering with the design and construction of each vessel. This notification of issuance of a certificate of alternative compliance promotes the Coast Guard's marine safety mission.

DATES: The Certificate of Alternative Compliance was issued on March 22, 2021.

FOR FURTHER INFORMATION CONTACT: For information or questions about this notice call or email LT Amanda Garcia, District Eleven, Prevention Division, U.S. Coast Guard, telephone 510-437-3426, email Amanda.M.Garcia@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Eleventh Coast Guard District's Prevention Division, U. S. Coast Guard, certifies that the USNS HARVEY MILK (O.N. CG1473700) and USNS EARL WARREN (O.N. CG1473701) are both vessels of special construction or purpose, and that, with respect to the operation of the ship's whistles, it is not possible to comply fully with the requirements of the provisions enumerated in the 72 COLREGS, without interfering with the normal operation, construction, or design of each vessel. The Eleventh Coast Guard District's Prevention Division, U.S. Coast Guard further finds and certifies that the operation of the ship's whistles, are in the closest possible compliance with the applicable provisions of the 72 COLREGS.⁵

⁵ 33 U.S.C. 1605(a); 33 CFR 81.9.

This notice is issued under authority of 33 U.S.C. 1605(c) and 33 CFR 81.18.

Dated: March 30, 2021.
G.A. Callaghan,
Captain, U.S. Coast Guard, Chief, Prevention Division, Eleventh Coast Guard District.

[FR Doc. 2021-07038 Filed 4-5-21; 8:45 am]

BILLING CODE 9110-04-P